ENVIRONMENTAL PROTECTION AGENCY

[FRL-8208-2]

Clean Water Act Section 303(d): Availability of Thirty Oklahoma Total Maximum Daily Loads (TMDLs) for Public Comment

AGENCY: Environmental Protection Agency (EPA).

ACTION: Notice of availability of thirty Oklahoma TMDLs for public comment.

SUMMARY: This notice announces the availability for public comment of thirty TMDLs, and their administrative record files prepared by EPA Region 6 for certain waters listed in the Upper Canadian River and Turkey Creek Watersheds of Oklahoma, under section 303(d) of the Clean Water Act (CWA).

DATES: Comments must be submitted in writing to EPA on or before September 11, 2006.

ADDRESSES: Comments on the thirty TMDLs should be sent to Diane Smith, Environmental Protection Specialist, Water Quality Protection Division, U.S. Environmental Protection Agency Region 6, 1445 Ross Ave., Dallas, TX 75202-2733 or e-mail: smith.diane@epa.gov. For further information, contact Diane Smith at (214) 665-2145 or fax 214-665-7373. The administrative record files for the thirty TMDLs are available for public inspection at this address as well. Documents from the administrative record files may be viewed at http://www.epa.gov/region6/6wq/npdes/tmdl/index.htm, or obtained by calling or writing Ms. Smith at the above address. Please contact Ms. Smith to schedule an inspection.

FOR FURTHER INFORMATION CONTACT: Diane Smith at (214) 665-2145.

SUPPLEMENTARY INFORMATION: On March 10, 2006, EPA Region 6 made a commitment to the EPA Headquarters Office of Water under EPA's National Water Program Fiscal Year 2006 Guidance for the program activity measure (PAM) number WQ-12, to establish or approve a total of 188 TMDLs in fiscal year (FY) 2006. Under the PAM number WQ-12, EPA expected the Oklahoma Department of Environmental Quality (ODEQ) to develop a total of 87 TMDLs in fiscal year (FY) 2006 and submit them for EPA's approval. By the end of July 2006, ODEQ had submitted two final TMDLs for EPA's approval and 30 draft TMDLs for EPA's review and comments. EPA has approved the two final TMDLs submitted by ODEQ. However, a recent discussion between EPA Region 6 and ODEQ senior managers determined that although substantial progress has been made on the other TMDLs, the remainder of the TMDLs needed to meet the commitment could not be completed by the target date. Accordingly, EPA Region 6 has decided to conduct the public participation process for these thirty TMDLs and establish the final TMDLs on or before September 30, 2006, to meet the FY06 PAM commitment.

EPA Seeks Comment on Thirty TMDLs

By this notice EPA is seeking public comment on the following thirty TMDLs for certain waters located within Oklahoma's Upper Canadian River and Turkey Creek Watersheds:

Segment | Waterbody name | Pollutant
Upper Canadian River Watershed:
OK520620010010_00 | Canadian River | Fecal coliform
OK520620010120_00 | Bear Creek | E. coli, Enterococci, and Fecal coliform
OK520620020010_00 | Canadian River | Enterococci, and Fecal coliform
OK520620020090_00 | Trail Creek | E. coli, Enterococci, and Fecal coliform
OK520620030020_00 | Lone Creek | E. coli and Enterococci
OK520620030050_00 | Red Trail Creek | E. coli, Enterococci, and Fecal coliform
OK520620030110_00 | Red Creek | E. coli, Enterococci, and Fecal coliform
OK520620040050_00 | Hackberry Creek | E. coli and Enterococci
OK520620050160_00 | Commission Creek | E. coli and Enterococci
OK520620060010_00 | Deer Creek | E. coli and Enterococci
Turkey Creek Watershed:
OK620910060010_00 | Turkey Creek | Fecal Coliform and turbidity
OK620910060020_00 | Little Turkey Creek | Fecal Coliform and turbidity
OK620910060030_00 | Buffalo Creek | Fecal Coliform and turbidity
OK620910060110_00 | Clear Creek | Fecal Coliform

EPA requests that the public provide to EPA any written comments on these thirty TMDLs and any additional water quality related data and information that may be relevant to their establishment. EPA will review all comments, data, and information submitted during the public comment period and will revise the TMDLs where appropriate. EPA will then establish the TMDLs and forward them to the ODEQ. The ODEQ will incorporate the TMDLs into its current water quality management plan.

Dated: August 4, 2006.
Miguel I. Flores,
Director, Water Quality Protection Division (6WQ).

[FR Doc. E6-13181 Filed 8-10-06; 8:45 am]

BILLING CODE 6560-50-P